DEPARTMENT OF TRANSPORTATION

Federal Aviation Administration

14 CFR Part 39

[Docket No. 2001-NM-151-AD; Amendment 39-12773; AD 2002-12-01]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to certain BAE Systems (Operations) Limited (Jetstream) Model 4101 airplanes, that requires a functional test of the shortening mechanism of the nose landing gear for free movement of the capsule in the upper and lower bearings, and corrective action, if necessary. This action is necessary to prevent damage to the capsule, which could result in inability to extend the nose landing gear in normal or emergency situations, and consequent injury to passengers and flight crew. This action is intended to address the identified unsafe condition.

DATES: Effective July 16, 2002.

The incorporation by reference of certain publications listed in the regulations is approved by the Director of the Federal Register as of July 16, 2002.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain BAE Systems (Operations) Limited (Jetstream) Model 4101 airplanes was published in the Federal Register on September 25, 2001 (66 FR 48987). That action proposed to require a functional test of the shortening mechanism of the nose landing gear for free movement of the capsule in the upper and lower bearings, and corrective action, if necessary.

Comments

Interested persons have been afforded an opportunity to participate in the making of this amendment. Due consideration has been given to the single comment received.

Revise Civil Aviation Authority (CAA) Classification

The commenter requests that the FAA revise the proposed AD to remove this statement: “The Civil Aviation Authority, which is the airworthiness authority for the United Kingdom, classified (BAE Systems (Operations) Limited (Jetstream) Service Bulletin J41-32-075, dated April 18, 2001) as “Mandatory.”” (The proposed AD identifies that service bulletin as an appropriate source of service information for certain proposed actions.)

The commenter points out that, since the issuance of the proposed AD, the airplane manufacturer has issued BAE Systems (Operations) Limited (Jetstream) Service Bulletin J41-32-075, Revision 1, dated May 18, 2001. The actions described in Revision 1 of the service bulletin are identical to those in the original issue. However, Revision 1 revises the classification made by the CAA from “Mandatory” to “Optional Highly Recommended.” The commenter states that the CAA categorizes failure of the nose landing gear to extend as a “Major Event,” and the CAA does not consider it necessary to classify service bulletins addressing such events as “Mandatory.”

The FAA acknowledges the commenter's request. The statement to which the commenter refers is not restated in this final rule, so no change to the final rule is necessary in that regard.

After considering the CAA's decision to change the classification of the referenced service bulletin, the FAA has determined that it is necessary to proceed with this final rule in order to mandate the actions specified in BAE Systems (Operations) Limited (Jetstream) Service Bulletin J41-32-075. While the CAA may not consider that mandatory action is necessary to correct failure of the nose landing gear to extend, the fact remains that this condition could result in injury to passengers and flight crew. The FAA also finds it appropriate to cite Revision 1 of the referenced service bulletin, in addition to the original issue, as an appropriate source of service information for certain actions in this final rule. We have revised paragraph (a)(2) of this AD accordingly.

Conclusion

After careful review of the available data, including the comment noted above, the FAA has determined that air safety and the public interest require the adoption of the rule with the change described previously. The FAA has determined that this change will neither increase the economic burden on any operator nor increase the scope of the AD.

Cost Impact

The FAA estimates that 59 Model 4101 airplanes of U.S. registry will be affected by this AD, that it will take approximately 2 work hours per airplane to accomplish the required functional test, and that the average labor rate is $60 per work hour. Based on these figures, the cost impact of the functional test required by this AD on U.S. operators is estimated to be $7,080, or $120 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-12-01 BAE Systems (Operations) Limited (Formerly British Aerospace Regional Aircraft):

Amendment 39-12773. Docket 2001-NM-151-AD.

Applicability: Model Jetstream 4101 airplanes, as listed in BAE Systems (Operations) Limited (Jetstream) Service Bulletin J41-32-075, dated April 18, 2001, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent damage to the capsule in the upper and lower bearings of the shortening mechanism of the nose landing gear, which could result in inability to extend the nose landing gear in normal or emergency situations, and consequent injury to passengers and flight crew, accomplish the following:

Functional Test/Corrective Action

(a) Within 300 flight hours or 60 days after the effective date of this AD, whichever comes first: Do a functional test of the shortening mechanism of the nose landing gear for free movement of the capsule in the upper and lower bearings, according to APPH Precision Hydraulics Service Bulletin AIR83586-32-16, dated February 2001. If the capsule does not move freely, before further flight, do the actions specified in paragraph (a)(1) or (a)(2) of this AD, as applicable. If the capsule moves freely, no further action is required by this paragraph.

(1) Rework according to APPH Precision Hydraulics Service Bulletin AIR83586-32-16, dated February 2001.

(2) If the rework is not done, before further flight, do a full functional test of the extension/retraction system of the nose landing gear according to BAE Systems (Operations) Limited (Jetstream) Service Bulletin J41-32-075, dated April 18, 2001, or Revision 1, dated May 18, 2001; and do the actions specified in paragraph (a)(1)(i) or (a)(2)(ii) of this AD, as applicable.

(i) If the nose landing gear extends and retracts correctly, repeat the full functional test every 50 flight hours according to the service bulletin. Within 300 flight hours after the initial test, do the requirements in paragraph (a)(1) of this AD, which ends the repetitive testing specified in this paragraph.

(ii) If the nose landing gear does not extend and retract correctly, before further flight, replace the nose landing gear with new landing gear according to the service bulletin.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with APPH Precision Hydraulics Service Bulletin AIR83586-32-16, dated February 2001; and BAE Systems (Operations) Limited (Jetstream) Service Bulletin J41-32-075, dated April 18, 2001; or BAE Systems (Operations) Limited (Jetstream) Service Bulletin J41-32-075, Revision 1, dated May 18, 2001. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Effective Date

(e) This amendment becomes effective on July 16, 2002.

Issued in Renton, Washington, on June 3, 2002.
Ali Bahrami,
Acting Manager, Transport Airplane Directorate, Aircraft Certification Service.

[FR Doc. 02-14410 Filed 6-10-02; 8:45 am]

BILLING CODE 4910-13-P